ENVIRONMENTAL PROTECTION AGENCY

[EPA-HQ-OAR-2010-0108; FRL-9910-59-OAR]

Release of Final Policy Assessment Document Related to the Review of the National Ambient Air Quality Standards for Lead

AGENCY: Environmental Protection Agency (EPA).

ACTION: Notice of availability.

SUMMARY: The EPA is announcing the availability of a final document titled Policy Assessment for the Review of the Lead National Ambient Air Quality Standards. The Policy Assessment (PA) has been prepared by staff in the EPA's Office of Air Quality Planning and Standards (OAQPS) as part of the agency's ongoing review of the primary (health-based) and secondary (welfare-based) national ambient air quality standards (NAAQS) for lead (Pb). It presents analyses and staff conclusions regarding the policy implications of the key scientific and technical information that informs this review.

DATES: The PA will be available on or about May 9, 2014.

ADDRESSES: This document will be available primarily via the Internet at the following Web site: http://www.epa.gov/ttn/naaqs/standards/pb/s_pb_index.html.

FOR FURTHER INFORMATION CONTACT: Dr. Deirdre Murphy, Office of Air Quality Planning and Standards (mail code C504-06), U.S. Environmental Protection Agency, Research Triangle Park, NC 27711; telephone number: 919-541-0729; fax number: 919-541-0237; email address: murphy.deirdre@epa.gov.

SUPPLEMENTARY INFORMATION: Two sections of the Clean Air Act (CAA) govern the establishment and revision of the NAAQS. Section 108 (42 U.S.C. section 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which . . . [the Administrator] plans to issue air quality criteria. . . .” Air quality criteria are intended to “accurately reflect the latest scientific knowledge useful in indicating the kind and extent of all identifiable effects on public health or welfare which may be expected from the presence of [a] pollutant in the ambient air . . .” 42 U.S.C. section 7408(b). Under section 109 (42 U.S.C. section 7409), the EPA establishes primary (health-based) and secondary (welfare-based) NAAQS for pollutants for which air quality criteria are issued. Section 109(d) requires periodic review and, if appropriate, revision of existing air quality criteria. The EPA is also required to periodically review and, if appropriate, revise the NAAQS based on the revised criteria. Section 109(d)(2) requires that an independent scientific review committee “shall complete a review of the criteria . . . and the national primary and secondary ambient air quality standards . . . and shall recommend to the Administrator any new . . . standards and revisions of existing criteria and standards as may be appropriate. . . .” Since the early 1980's, this independent review function has been performed by the Clean Air Scientific Advisory Committee (CASAC).

Presently, the EPA is reviewing the NAAQS for Pb.¹ The document, whose availability is being announced today, Policy Assessment for the Review of the Lead National Ambient Air Quality Standards, presents analyses and staff conclusions regarding the policy implications of the key scientific and technical information that informs this review. The PA is intended to “bridge the gap” between the relevant scientific evidence and technical information and the judgments required of the EPA Administrator in determining whether to retain or revise the current standards. The PA builds upon information presented in the Integrated Science Assessment for Lead prepared for this review by the EPA's Office of Research and Development (ORD) as well as scientific and technical assessments from prior Pb NAAQS reviews, including quantitative risk and exposure assessments developed in the last review. A draft of the PA document was released for CASAC review and public comment in January 2013 (78 FR 2394), and was the subject of a CASAC review meeting on February 5-6, 2013 (78 FR 938). In preparing the final PA, EPA has considered comments received from CASAC and the public on the earlier draft document. This final PA document will be available through the agency's Technology Transfer Network (TTN) Web site at http://www.epa.gov/ttn/naaqs/standards/pb/s_pb_index.html. This document may be accessed in the “Documents from Current Review” section under “Policy Assessments.”

¹ The EPA's call for information for this review was issued on February 26, 2010 (75 FR 8934).

Dated: May 2, 2014.
Mary E. Henigin,
Acting Director, Office of Air Quality Planning and Standards.

[FR Doc. 2014-10679 Filed 5-8-14; 8:45 am]

BILLING CODE 6560-50-P